DEPARTMENT OF HOMELAND SECURITY

Coast Guard

33 CFR Part 117

[Docket No. USCG-2011-0901]

Drawbridge Operation Regulations; Neuse River, New Bern, NC

AGENCY: Coast Guard, DHS.

ACTION: Notice of temporary deviation from regulations.

SUMMARY: The Commander, Fifth Coast Guard District, has issued a temporary deviation from the regulations governing the operation of the Neuse River Railroad Bridge, at mile 33.7, over the Neuse River, at New Bern, NC. The deviation restricts the operation of the draw span to facilitate repairs to the main mechanism of the bridge.

DATES: This deviation is effective from 9 a.m. on October 4, 2011, until 6 p.m. October 13, 2011.

ADDRESSES: Documents mentioned in this preamble as being available in the docket USCG-2011-0901 and are available online by going to http://www.regulations.gov, inserting USCG-2011-0901 in the “Keyword” box, and then clicking “Search.” This material is also available for inspection or copying the Docket Management Facility (M-30), U.S. Department of Transportation, West Building Ground Floor, Room W12-140, 1200 New Jersey Avenue, SE., Washington, DC 20590, between 9 a.m. and 5 p.m., Monday through Friday, except Federal Holidays.

FOR FURTHER INFORMATION CONTACT: If you have questions on this rule, call or e-mail Mr. Bill H. Brazier, Bridge Management Specialist, Fifth Coast Guard District, telephone (757) 398-6422, e-mail Bill.H.Brazier@uscg.mil. If you have questions on reviewing the docket, call Renee V. Wright, Program Manager, Docket Operations, (202) 366-9826.

SUPPLEMENTARY INFORMATION: Norfolk and Southern Railroad Corporation, who owns and operates this swing bascule bridge, has requested a temporary deviation from the current operating regulations set out in 33 CFR 117.824, to facilitate repairs to the main mechanism of the drawbridge.

In the closed position to vessels, the Neuse River Railroad Bridge, at mile 33.7, at New Bern, NC has no available vertical clearance.

Under this temporary deviation, the drawbridge will be closed to vessels requiring an opening of the draw span from 9 a.m. on October 4, 2011 until and including 6 p.m. October 6, 2011 and from 9 a.m. on October 11, 2011 until and including 6 p.m. on October 13, 2011. The drawbridge can open in an emergency. There are no alternate routes for vessels transiting this section of the Neuse River.

The majority of the vessels that transit through this bridge during this time of year are generally recreational with intermittent tug and barge traffic. The Coast Guard has carefully coordinated the restrictions with commercial and recreational waterway users. The Coast Guard will inform all users of the waterway through our Local and Broadcast Notice to Mariners of the closure periods for the bridge so that vessels can arrange their transits to minimize any impacts caused by the temporary deviation.

In accordance with 33 CFR 117.35(e), the draw must return to its original operating schedule immediately at the end of the designated time period. This deviation from the operating regulations is authorized under 33 CFR 117.35.

Dated: September 26, 2011.
Waverly W. Gregory, Jr.,
Bridge Program Manager, By direction of the Commander, Fifth Coast Guard District.

[FR Doc. 2011-26548 Filed 10-13-11; 8:45 am]

BILLING CODE 9110-04-P